COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products to the Procurement List that will be furnished by the nonprofit agency employing persons who are blind or have other severe disabilities, and deletes products previously furnished by such agencies.

DATES: Comments must be received on or before: 5/28/2012.

ADDRESSES: Committee for Purchase From People Who Are Blind or Severely Disabled, Jefferson Plaza 2, Suite 10800, 1421 Jefferson Davis Highway, Arlington, Virginia, 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organization that will furnish the products to the Government.

2. If approved, the action will result in authorizing small entities to furnish the products to the Government.

3. There are no known regulatory alternatives which would accomplish the objectives of the Javits-Wagner-O'Day Act (41 U.S.C. 8501-8506) in connection with the products proposed for addition to the Procurement List.

Comments on this certification are invited. Commenters should identify the statement(s) underlying the certification on which they are providing additional information.

End of Certification

The following products are proposed for addition to the Procurement List for production by the nonprofit agency listed:

Products

Combat Arms Ear Plugs

NSN: 6515-01-576-8796—Skull Screws Ear Plug, Single Ended, Universal Size.

NSN: 6515-01-576-8837—Single Ended, Size Small.

NSN: 6515-01-576-8861—Single Ended, Size Medium.

NSN: 6515-01-576-8869—Single Ended, Size Large.

NSN: 6515-01-466-2710—Dual Ended, Universal Size.

NPA: New Dynamics Corporation, Middletown, NY.

Contracting Activity: Defense Logistics Agency Troop Support, Philadelphia, PA.

Coverage: C-List for 100% of the requirement of the Department of Defense, as aggregated by the Defense Logistics Agency Troop Support, Philadelphia, PA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 8501-8506) in connection with the products proposed for deletion from the Procurement List.

End of Certification

The following products are proposed for deletion from the Procurement List:

Products

Towel, Machinery Wiping

NSN: 7920-00-NIB-0046 .

NPA: East Texas Lighthouse for the Blind, Tyler, TX.

Contracting Activity: General Services Administration, Fort Worth, TX.

Shredders

NSN: 7490-01-567-4337—Fellowes Model 4000CC.

NSN: 7490-01-567-4338—Fellowes Model 4000SC.

NSN: 7490-01-567-4339—Fellowes Model 970CC.

NPA: L.C. Industries for the Blind, Inc., Durham, NC.

Contracting Activity: General Services Administration, New York, NY.

Flag, Signal, Vehicle, Danger Red

NSN: 8345-00-260-2724.

NPA: None available since 1996.

Contracting Activity: Defense Logistics Agency Troop Support, Philadelphia, PA.

Envelope, Wallet

NSN: 7530-00-NIB-0260.

NSN: 7530-00-NIB-0261.

NSN: 7530-00-NIB-0262.

NPA: None available since 1998.

Contracting Activity: National Geospatial-Intelligence Agency, Bethesda, MD.

Calendars

NSN: 7510-01-545-3776—Calendar Pad, Type I, 2011.

NSN: 7530-01-573-4866—DAYMAX System, LE, 2011, Navy.

NSN: 7530-01-573-4866L—DAYMAX System, LE, 2011, Navy w/Logo.

NSN: 7510-01-545-3784—Calendar Pad, Type II, 2011.

NSN: 7510-01-573-4835—DAYMAX, IE/LE Month at a View, 2011, 3-hole.

NSN: 7510-01-573-4839—DAYMAX, IE/LE Week at a View, 2011, 3-hole.

NSN: 7510-01-573-4840—DAYMAX, IE/LE Day at a View, 2011, 3-hole.

NSN: 7510-01-573-4841—DAYMAX, GLE Day at a View, 2011, 7-hole.

NSN: 7510-01-573-4842—DAYMAX, GLE Month at a View, 2011, 7-hole.

NSN: 7510-01-573-4843—DAYMAX, Tabbed Monthly, 2011, 3-hole.

NSN: 7510-01-573-4844—DAYMAX, Tabbed Monthly, 2011, 7-hole.

NSN: 7510-01-573-4847—DAYMAX, GLE Week at a View, 2011, 7-hole.

NSN: 7510-01-573-4856—DAYMAX, Tabbed Monthly, 2011, 6-hole.

NSN: 7530-01-573-4836—DAYMAX System, DOD Planner, 2011.

NSN: 7530-01-573-4837—DAYMAX System, Camouflage Planner, 2011.

NSN: 7530-01-573-4836L—DAYMAX System, DOD Planner w/Logo, 2011.

NSN: 7530-01-573-4837L—DAYMAX System, Camouflage Planner w/Logo, 2011.

NSN: 7530-01-573-4848L—DAYMAX System, JR Version, 2011, Black w/Logo.

NSN: 7530-01-573-4848—DAYMAX System, JR Version, 2011, Black.

NSN: 7530-01-573-4849—DAYMAX System, GLE, 2011, Black.

NSN: 7530-01-573-4849L—DAYMAX System, GLE, 2011, Black w/Logo.

NSN: 7530-01-573-4850L—DAYMAX System, LE, 2011, Burgundy w/Logo.

NSN: 7530-01-573-4851L—DAYMAX System, GLE, 2011, Navy w/Logo.

NSN: 7530-01-573-4853L—DAYMAX System, JR Version, 2011, Navy w/Logo.

NSN: 7530-01-573-4854L—DAYMAX System, GLE, 2011, Burgundy w/Logo.

NSN: 7530-01-573-4855L—DAYMAX System, Desert, Camouflage Planner, 2011 w/Logo.

NSN: 7530-01-573-4858L—DAYMAX System, JR Version, 2011, Burgundy.

NSN: 7530-01-573-4860—DAYMAX System, IE, 2011, Black.

NSN: 7530-01-573-4860L—DAYMAX System, IE, 2011, Black w/Logo.

NSN: 7530-01-573-4861L—DAYMAX System, IE, 2011, Navy w/Logo.

NSN: 7530-01-573-4864L—DAYMAX System, IE, 2011, Burgundy w/Logo.

NSN: 7530-01-573-4865L—DAYMAX System, LE, 2011, Black w/Logo.

NSN: 7530-01-573-4864—DAYMAX System, IE, 2011, Burgundy.

NSN: 7530-01-573-4865—DAYMAX System, LE, 2011, Black.

NSN: 7530-01-573-4861—DAYMAX System, IE, 2011, Navy.

NSN: 7530-01-573-4858—DAYMAX System, JR Version, 2011, Burgundy.

NSN: 7530-01-573-4855—DAYMAX System, Desert, Camouflage Planner, 2011

NSN: 7530-01-573-4853—DAYMAX System, JR Version, 2011, Navy.

NSN: 7530-01-573-4854—DAYMAX System, GLE, 2011, Burgundy.

NSN: 7530-01-573-4851—DAYMAX System, GLE, 2011, Navy.

NSN: 7530-01-573-4850—DAYMAX System, LE, 2011, Burgundy.

NSN: 7530-01-545-3747—Appointment Book Refill, 2011.

NSN: 7530-01-564-6052L—JR Deluxe Time Management System-JR Deluxe Version.

NSN: 7530-01-564-6052—JR Deluxe Time Management System-JR Deluxe Version.

NSN: 7530-01-564-6051L—JR Deluxe Time Management System-JR Deluxe Version.

NSN: 7530-01-564-6051—JR Deluxe Time Management System-JR Deluxe Version.

NSN: 7530-01-545-3741—Appt. Book Refill, 2010.

NSN: 7530-01-537-7869L—DAYMAX System, Woodland Camouflage Planner, 2010 w/Logo.

NSN: 7530-01-537-7869—DAYMAX System, Woodland, Camouflage Planner, 2010.

NSN: 7530-01-537-7865L—DAYMAX System, DOD Planner, 2010 w/Logo.

NSN: 7530-01-537-7865—DAYMAX System, DOD Planner, 2010.

NSN: 7530-01-537-7862L—DAYMAX System, Desert, Camouflage Planner, 2010 w/Logo.

NSN: 7530-01-537-7862—DAYMAX System, Desert, Camouflage Planner, 2010.

NSN: 7530-01-537-7860L—DAYMAX System, GLE, 2010, Burgundy w/Logo.

NSN: 7530-01-537-7860—DAYMAX System, GLE, 2010, Burgundy.

NSN: 7530-01-537-7855L—DAYMAX System, GLE, 2010, Navy w/Logo.

NSN: 7530-01-537-7855—DAYMAX System, GLE, 2010, Navy

NSN: 7530-01-537-7851L—DAYMAX System, GLE, 2010, Black w/Logo.

NSN: 7530-01-537-7851—DAYMAX System, GLE, 2010, Black.

NSN: 7530-01-537-7836L—DAYMAX System, LE, 2010, Burgundy w/Logo.

NSN: 7530-01-537-7836—DAYMAX System, LE, 2010, Burgundy.

NSN: 7530-01-537-7835L—DAYMAX System, LE, 2010, Navy w/Logo.

NSN: 7530-01-537-7835—DAYMAX System, LE, 2010, Navy.

NSN: 7530-01-537-7834L—DAYMAX System, LE, 2010, Black w/Logo.

NSN: 7530-01-537-7834—DAYMAX System, LE, 2010, Black.

NSN: 7530-01-537-7833L—DAYMAX System, IE, 2010, Navy w/Logo.

NSN: 7530-01-537-7833—DAYMAX System, IE, 2010, Navy.

NSN: 7530-01-537-7832L—DAYMAX System, JR Version, 2010, Navy w/Logo.

NSN: 7530-01-537-7832—DAYMAX System, JR Version, 2010, Navy.

NSN: 7530-01-537-7831L—DAYMAX System, IE, 2010, Burgundy w/Logo.

NSN: 7530-01-537-7831—DAYMAX System, IE, 2010, Burgundy.

NSN: 7530-01-537-7830L—DAYMAX System, IE, 2010, Black w/Logo.

NSN: 7530-01-537-7830—DAYMAX System, IE, 2010, Black.

NSN: 7530-01-537-7829L—DAYMAX System, JR Version, 2010, Black w/Logo.

NSN: 7530-01-537-7829—DAYMAX System, JR Version, 2010, Black.

NSN: 7530-01-537-7828L—DAYMAX System, JR Version, 2010, Burgundy w/Logo.

NSN: 7530-01-537-7828—DAYMAX System, JR Version, 2010, Burgundy.

NSN: 7510-01-545-3781—Calendar Pad, Type 2, 2010.

NSN: 7510-01-537-7880—DAYMAX, GLE Day at a View, 2010, 7-hole.

NSN: 7510-01-537-7878—DAYMAX, Tabbed Monthly, 2010, 7-hole.

NSN: 7510-01-537-7877—DAYMAX, Tabbed Monthly, 2010, 3-hole.

NSN: 7510-01-537-7866—DAYMAX, IE/LE Month at a View, 2010, 3-hole.

NSN: 7510-01-537-7872—DAYMAX, IE/LE Day at a View, 2010, 3-hole.

NSN: 7510-01-537-7876—DAYMAX, GLE Week at a View, 2010, 7-hole.

NSN: 7510-01-537-7874—DAYMAX, GLE Month at a View, 2010, 7-hole.

NSN: 7510-01-537-7871—DAYMAX, IE/LE Week at a View, 2010, 3-hole.

JR Deluxe Time Management System

NSN: 7510-01-564-6053—JR Tabbed Month Divider.

NPA: The Easter Seal Society of Western Pennsylvania, Pittsburgh, PA.

Contracting Activity: General Services Administration, New York, Ny.

Barry S. Lineback,
Director, Business Operations.

[FR Doc. 2012-10167 Filed 4-26-12; 8:45 am]

BILLING CODE 6353-01-P